DEPARTMENT OF THE INTERIOR

Bureau of Land Management

[A2407-014-004-065516; #O2412-014-004-047181.1]

Draft Environmental Assessment, Public Hearing, and Request for Comment on the Draft Environmental Assessment, Maximum Economic Recovery, and Fair Market Value for the Falkirk Mining Company Proposed Emergency Federal Coal Lease-By-Application and Mining Plan for NDM 111489, McLean County, ND

AGENCY: Bureau of Land Management, Interior.

ACTION: Notice of availability and public hearing.

SUMMARY: The Bureau of Land Management (BLM) and the Office of Surface Mining Reclamation and Enforcement (OSMRE) announce that a draft environmental assessment (EA) is available for public review and comment for the Falkirk Mining Company's emergency Federal coal lease-by-application (LBA) for Falkirk Mine, serial number NDM-111489, and mining plan for the proposed NDM-111489. The BLM and OSMRE also announce that a public hearing will be held to receive comments on the draft EA, Fair Market Value (FMV), Maximum Economic Recovery (MER), and on factors that may affect the FMV and MER determinations of the coal resources contained in the proposed LBA lease tracts. The BLM and OSMRE take these actions in compliance with the National Environmental Policy Act of 1969, as amended; the Mineral Leasing Act, as amended; and the Federal Land Policy and Management Act of 1976, as amended.

DATES: The draft EA will be available for public comment on June 23, 2025. To receive due consideration, written comments must be received by the BLM Montana/Dakotas State Office no later than July 7, 2025.

A public hearing will be held on July 7, 2025, from 3 p.m. to 6 p.m. Mountain Time.

ADDRESSES: The public hearing will be held at the Underwood City Hall located at 88 Lincoln Avenue in Underwood, ND 58576. Any updates to the public hearing will be provided through the ePlanning project website and a press release.

The draft EA and documents pertinent to this proposal are available for review on the BLM ePlanning project website at https://eplanning.blm.gov/eplanning-ui/project/2037729/510. Please submit your comments to this website.

FOR FURTHER INFORMATION CONTACT: Tessa Wallace, BLM Montana/Dakotas State Office, Solid Minerals, 5001 Southgate Dr. Billings, MT 59101; telephone: 406-896-5086; email: tlwallace@blm.gov.

Individuals in the United States who are deaf, deafblind, hard of hearing, or have a speech disability may dial 711 (TTY, TDD, or TeleBraille) to access telecommunications relay services for contacting Ms. Wallace. Individuals outside the United States should use the relay services offered within their country to make international calls to the point-of-contact in the United States.

SUPPLEMENTARY INFORMATION: The purpose and need for the BLM's Federal action is to respond to Falkirk Mining Company's emergency LBA to lease Federal coal resources at the Falkirk Mine in North Dakota. The Federal tracts contain approximately 11.3 million tons of minable coal over approximately 800 acres, which could be mined through 2045. The purpose of OSMRE's Federal action is to conduct an analysis of the potential environmental effects of the proposed mining plan for the proposed NDM 111489 lease. OSMRE will use this analysis to inform its recommendation to the Assistant Secretary for Land and Minerals Management, who may approve, disapprove, or approve with conditions the proposed Federal mining plan. Three alternatives are analyzed in the draft EA.

Comments on the draft EA, FMV, and MER received from the public will be considered and incorporated as appropriate into the final EA and written report.

The tracts for the proposed NDM 111489 lease underlie private surface and are described as follows:

Fifth Principal Meridian, ND

Fifth Principal Meridian, ND

T. 146 N., R. 82 W.,

Sec. 2, lots 3 and 4, and S½NW¼;

Sec. 3, lots 1 and 2, S1/2NE¼, and SE¼;

T. 146 N., R. 83 W.,

Sec. 24, SE¼;

T. 144 N., R. 84 W.,

Sec. 12, NW¼.

The areas described aggregate 799.96 acres, according to the surveys of the said land, on file with the BLM.

Through this notice, the BLM and OSMRE are inviting the public to provide comments regarding the potential environmental impacts related to the proposed action and any factors that may affect the determinations of the FMV and MER.

Any proprietary information or data that you submit to the BLM must be marked as confidential and mailed directly to the BLM Montana-Dakotas State Office, Attention: Tessa Wallace (see FOR FURTHER INFORMATION CONTACT) to assure the data will be treated in accordance with the applicable laws and regulations governing the confidentiality of such information or data. A copy of the comments submitted by the public on the draft EA, FMV, and MER for the tracts, except those portions identified as proprietary and that meet one of the exemptions in the Freedom of Information Act, will be available for public inspection at the BLM Montana/Dakotas State Office (see FOR FURTHER INFORMATION CONTACT), during regular business hours (8 a.m. to 4:30 p.m. Central Time), Monday through Friday, except Federal holidays.

Before including your address, phone number, email address, or other personal identifying information in your comment, you should be aware that your entire comment—including your personal identifying information—may be made publicly available at any time. While you can ask us in your comment to withhold your personal identifying information from public review, the BLM cannot guarantee that we will be able to do so.

(Authority: 40 CFR 1506.6, 43 CFR 3425.3 and 3425.4)

Joshua F. Alexander,
Deputy State Director, BLM Montana/Dakotas.

[FR Doc. 2025-11474 Filed 6-20-25; 8:45 am]

BILLING CODE 4331-20-P